DEPARTMENT OF THE INTERIOR

National Park Service

[NPS-MWR-MIMI-17964; PPMWMIMIA0/PPMPSPD1Z.YM0000]

Establishment of a New Recreation Fee Area at Minuteman Missile National Historic Site

AGENCY: National Park Service, Interior.

ACTION: Notice.

SUMMARY: The National Park Service plans to establish fees for the tour of the Launch Control Facility Delta-01. The proposed amenity fee is intended to provide enhanced tour reservation services through the Recreation.gov system. This reservation service would replace the existing first-come first-serve system for providing tour tickets. The park will use the revenue to fund preservation maintenance requirements of the Launch Control Facility Delta-01 site, potentially increase staff to accommodate the increase in visitation and implement a tour reservation system through Recreation.gov.

DATES: We will begin collecting fees on December 16, 2015.

FOR FURTHER INFORMATION CONTACT: Eric Leonard, Superintendent, Minuteman Missile National Historic Site, 24545 Cottonwood Road, Philip, South Dakota 57567; telephone (605) 433-5552; or by email at eric_leonard@nps.gov.

SUPPLEMENTARY INFORMATION: This notice is to comply with Section 804 of the Federal Lands Recreation Enhancement Act of 2004 (Pub. L. 108-447). The act requires agencies to give the public 6 months advance notice of the establishment of a new recreation fee area. The guided tour fee structure will be $6 per adult; $4 for ages 13 to 16; and no charge for children 12 years of age and under. The Delta-09 Missile Launch Facility (missile silo), including self-guided and limited guided tours, will remain a fee-free area. These fees were determined through a comparability study of similar sites in the area at Federal, state, and private recreation areas. In accordance with NPS public involvement guidelines, the park engaged numerous individuals, organizations, and local, state, and Federal government representatives while planning for the implementation of this fee.

Dated: April 28, 2015.
Lena McDowall,
Chief Financial Officer.

[FR Doc. 2015-14723 Filed 6-15-15; 8:45 am]

BILLING CODE 4310-MA-P